NUCLEAR REGULATORY COMMISSION

[NRC-2016-0098]

Disposition of Information Related to the Time Period That Safety-Related Structures, Systems, or Components Are Installed

AGENCY: Nuclear Regulatory Commission.

ACTION: Draft regulatory issue summary; request for comment.

SUMMARY: The U.S. Nuclear Regulatory Commission (NRC) is seeking public comment on a draft regulatory issue summary (RIS) to inform nuclear power reactor licensees of existing requirements related to dispositioning information pertaining to the capability of safety-related structures, systems, and components (SSCs) to perform their safety-related functions in nuclear power plants. The draft RIS addresses instances where a licensee becomes aware of credible information pertaining to the time period that a safety-related structure, system, or component is installed that may negatively impact its ability to perform its safety-related function or functions. Licensees must address this information consistent with their licensing basis and applicable NRC requirements.

DATES: Submit comments by July 18, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2016-0098. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: John Thompson, telephone: 301-415-1011, email: John.Thompson@nrc.gov; and Eric Thomas, telephone: 301-415-6772, email: Eric.Thomas@nrc.gov. Both are staff members of the Office of Nuclear Reactor Regulation, U.S. Nuclear Regulatory Commission, Washington, DC 20555-0001.

SUPPLEMENTARY INFORMATION:

I. Obtaining Information and Submitting Comments

A. Obtaining Information

Please refer to Docket ID NRC-2016-0098 when contacting the NRC about the availability of information for this action. You may obtain publicly-available information related to this action by any of the following methods:

• Federal Rulemaking Web site: Go to http://www.regulations.gov and search for Docket ID NRC-2016-0098.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS, “Disposition of Information Related to the Time Period that Safety-Related Structures, Systems, or Components are Installed,” is available in ADAMS under Accession No. ML16111B121.

• NRC's PDR: You may examine and purchase copies of public documents at the NRC's PDR, Room O1-F21, One White Flint North, 11555 Rockville Pike, Rockville, Maryland 20852.

B. Submitting Comments

Please include Docket ID NRC-2016-0098 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC staff has developed draft RIS 2016-xx, “Disposition of Information Related to the Time Period that Safety-Related Structures, Systems, or Components are Installed,” to clarify NRC requirements and programs that provide quality assurance and ensure the operability of safety-related SSCs. When a licensee either becomes aware that a safety-related SSC has been installed for longer that the amount of time described in the licensing basis, or becomes aware of credible information that challenges the presumption that a safety-related SSC can continue to perform its safety function(s), the licensee must assess the information consistent with their licensing basis and applicable NRC requirements. These instances must be addressed in accordance with a licensee's NRC-approved quality assurance program, operability/functionality determination process, and corrective action program.

The NRC issues RISs to communicate with stakeholders on a broad range of matters. This may include clarification of existing requirements and regulations.

Proposed Action

The NRC is requesting public comment on the draft RIS. The NRC plans to hold a public meeting to discuss this draft RIS. All comments that are to receive consideration in the final RIS must still be submitted electronically or in writing as indicated in the ADDRESSES section of this document. Additional details regarding the meeting will be posted at least 10 days prior to the public meeting on the NRC's Public Meeting Schedule Web site at http://www.nrc.gov/public-involve/public-meetings/index.cfm. The NRC staff will make a final determination regarding issuance of the RIS after it considers any public comments received in response to this request.

Dated at Rockville, Maryland, this 3rd day of May 2016.
For the Nuclear Regulatory Commission.
Eric M. Thomas,
Operating Experience Branch, Division of Inspection and Regional Support, Office of Nuclear Reactor Regulation.

[FR Doc. 2016-11598 Filed 5-16-16; 8:45 am]

BILLING CODE 7590-01-P